DEPARTMENT OF THE INTERIOR

Bureau of Land Management

[LLNMA01000 L58740000.EU; LXSS043G0000; NMNM 123371]

Notice of Realty Action; Segregation of Public Land for Proposed Sale in Sandoval County, NM

AGENCY: Bureau of Land Management, Interior.

ACTION: Notice of Realty Action.

SUMMARY: The Bureau of Land Management (BLM) is considering a competitive sale of a parcel of public land totaling 130.56 acres, more or less, in Sandoval County, New Mexico, under the provisions of Section 203 of the Federal Land Policy Management Act of 1976 (FLPMA). This Notice of Realty Action (NORA) is provided for the segregation of lands being considered for sale for a period of up to 2 years.

DATES: In order to ensure consideration of your comments regarding the NORA, as well as the environmental analysis of the proposed sale, comments must be received by May 24, 2010.

ADDRESSES: Address all comments concerning this notice to the Field Manager, BLM, Rio Puerco Field Office, 435 Montano NE, Albuquerque, New Mexico, 87107.

FOR FURTHER INFORMATION CONTACT: Connie Maestas, Realty Specialist, at the above address or telephone (505) 761-8907.

SUPPLEMENTARY INFORMATION: The following described public land in Sandoval County, New Mexico, is being considered for competitive sale under the authority of Section 203 of the FLPMA (90 Stat. 2750, 43 U.S.C. 1713) and implementing regulations at 43 CFR part 2700:

New Mexico Principal Meridian

T. 12 N., R. 6 E.,

Sec. 23, lots 1 to 4, inclusive.

The area described contains 130.56 acres more or less in Sandoval County.

The 1986 BLM Rio Puerco Resource Management Plan maintained and reprinted in 1992, identifies this parcel of public land as suitable for disposal. Conveyance of the identified public land will be subject to valid existing rights and encumbrances of record, including but not limited to, rights-of-way for roads and public utilities. Conveyance of any mineral interests pursuant to Section 209 of the FLPMA will be analyzed during processing of the proposed sale.

On April 8, 2010, the above-described land will be segregated from appropriation under the public land laws, including the mining laws, except the sale provisions of the FLPMA. Until completion of the sale, the BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or April 9, 2011, unless extended by the BLM State Director in accordance with 43 CFR 2711.1-2(d) prior to the termination date.

Public Comments: For a period until May 24, 2010, interested parties and the general public may submit in writing any comments concerning the land being considered for competitive sale, including notification of any encumbrances or other claims relating to the identified land, to the Rio Puerco Field Manager, BLM Rio Puerco Field Office, at the above address. In order to ensure consideration in the environmental analysis of the proposed sale, comments must be in writing and postmarked or delivered within 45 days of the initial date of publication of this notice. Comments transmitted via e-mail will not be accepted. Comments, including names and street addresses of respondents, will be available for public review at the BLM Rio Puerco Field Office during regular business hours, except holidays. Individual respondents may request confidentiality. Before including your address, phone number, e-mail address, or other personal identifying information in your comment, you should be aware that your entire comment-including your personal identifying information-may be made publicly available at any time. While you can ask us in your comment to withhold your personal identifying information from public review, we cannot guarantee that we will be able to do so.

Authority: 43 CFR 2711.1-2.

Edwin Singleton,
District Manager.

[FR Doc. 2010-7998 Filed 4-7-10; 8:45 am]

BILLING CODE 4310-AG-P